ENVIRONMENTAL PROTECTION AGENCY

[EPA-HQ-OAR-2015-0500; FRL-9933-17-OAR]

Notice of Availability of the Environmental Protection Agency's Updated Ozone Transport Modeling Data for the 2008 Ozone National Ambient Air Quality Standard (NAAQS)

AGENCY: Environmental Protection Agency (EPA).

ACTION: Notice; extension of public comment period.

SUMMARY: The Environmental Protection Agency (EPA) is announcing that the period for providing public comments on the “Notice of Availability of the Environmental Protection Agency's Updated Ozone Transport Modeling Data for the 2008 Ozone National Ambient Air Quality Standard (NAAQS)” is being extended by 30 days.

DATES: Comments. The public comment period for the notice of data availability published August 4, 2015 (80 FR 46271), is being extended by 30 days to October 23, 2015, in order to provide the public additional time to submit comments and supporting information.

ADDRESSES: Comments. Written comments on the proposed rule may be submitted to the EPA electronically, by mail, by facsimile or through hand delivery/courier. Please refer to the notice (80 FR 46271) for the addresses and detailed instructions.

Docket. Publicly available documents relevant to this action are available for public inspection either electronically at http://www.regulations.gov or in hard copy at the EPA Docket Center, Room 3334, 1301 Constitution Ave. NW., Washington, DC. The Public Reading Room is open from 8:30 a.m. to 4:30 p.m., Monday through Friday, excluding legal holidays. A reasonable fee may be charged for copying. The EPA has established the official public docket No. EPA-HQ-OAR-2015-0500.

FOR FURTHER INFORMATION CONTACT: For questions on the emissions data and on how to submit comments on the emissions data and related methodologies, contact Alison Eyth, Air Quality Assessment Division, Environmental Protection Agency, C339-02, 109 T.W. Alexander Drive, Research Triangle Park, NC 27709; telephone number: (919) 541-2478; fax number: (919) 541-1903; email: eyth.alison@epa.gov. For questions on the air quality modeling and ozone contributions and how to submit comments on the air quality modeling data and related methodologies, contact Norm Possiel, Air Quality Assessment Division, Environmental Protection Agency, C439-01, 109 T.W. Alexander Drive, Research Triangle Park, NC 27709; telephone number: (919) 541-5692; fax number: (919) 541-0044; email: possiel.norm@epa.gov.

SUPPLEMENTARY INFORMATION:

Comment Period

The EPA is extending the public comment period for an additional 30 days. The public comment period will end on October 23, 2015, rather than September 23, 2015. This will ensure that the public has sufficient time to review and comment on all of the available information.

Dated: August 19, 2015.
Stephen D. Page,
Director, Office of Air Quality Planning and Standards.

[FR Doc. 2015-21381 Filed 8-27-15; 8:45 am]

BILLING CODE 6560-50-P